NUCLEAR REGULATORY COMMISSION

[NRC-2013-0048]

Maintenance, Testing, and Replacement of Vented Lead-Acid Storage Batteries for Nuclear Power Plants

AGENCY: Nuclear Regulatory Commission.

ACTION: Regulatory guide; issuance.

SUMMARY: The U.S. Nuclear Regulatory Commission (NRC) is issuing Revision 3 of Regulatory Guide (RG) 1.129, “Maintenance, Testing, and Replacement of Vented Lead-Acid Storage Batteries for Nuclear Power Plants.” The guide describes methods that the NRC staff considers acceptable for use in complying with the agency's regulations with regard to the maintenance, testing, and replacement of vented lead-acid storage batteries in nuclear power plants.

ADDRESSES: Please refer to Docket ID NRC-2013-0048 when contacting the NRC about the availability of information regarding this document. You may access publicly-available information related to this action by the following methods:

• Federal Rulemaking Web site: Go to http://www.regulations.gov and search for Docket ID NRC-2013-0048. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 3 of Regulatory Guide 1.129 is available in ADAMS under Accession No. ML13170A112. The regulatory analysis may be found in ADAMS under Accession No. ML13170A116.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Liliana Ramadan, telephone: 301-251-7642; email: Liliana.Ramadan@nrc.gov; or Edward O'Donnell, telephone: 301-251-7455; email: Edward.Odonnell@nrc.gov. Both of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

The NRC developed RG 1.129 to describe a method that the NRC staff considers acceptable for use in complying with the agency's regulations with regard to the maintenance, testing, and replacement of vented lead-acid storage batteries in nuclear power plants. Specifically, the method described in this regulatory guide relates to General Design Criteria (GDC) 1, 17, and 18 as set forth in appendix A, “General Design Criteria for Nuclear Power Plants,” to part 50 of Title 10 of the Code of Federal Regulations (10 CFR), “Domestic Licensing of Production and Utilization Facilities.”

The NRC issued Revision 3 of RG 1.129 with a temporary identification as Draft Regulatory Guide, DG-1269, in the Federal Register on March 12, 2013 (78 FR 15753), for a 60-day public comment period. The public comment period closed on May 13, 2013, and the NRC staff's response to the comments can be found in ADAMS under Accession No. ML13170A114.

RG 1.129, Revision 3 endorses (with certain clarifying regulatory positions) the Institute of Electrical and Electronics Engineers (IEEE) Std 450-2010, “IEEE Recommended Practice for Maintenance, Testing, and Replacement of Vented Lead-Acid Batteries for Stationary Applications.” That standard is an update of IEEE Std 450-2002, which formed the basis for RG 1.129, Revision 2. The revised IEEE Std 450-2010 refines the condition monitoring guidance and the use of rate-adjusted test methods for acceptance testing to ensure consistent performance of vented lead-acid batteries. Among the changes in RG 1.129, Revision 3 from the prior version is the deletion of clarifying regulatory positions 6 and 8. The former is addressed by IEEE 450-2010 and is not needed. The latter provides information on optional test methods and, unless otherwise stated in a regulatory position, this endorsement of IEEE-450-2010 does not apply to them. Therefore it is superfluous.

Revision 3 of RG 1.129 represents the NRC staff's current guidance for future users and applications. Earlier versions of this regulatory guide, however, continue to be acceptable for those licensees whose licensing basis includes earlier versions of this regulatory guide, absent a licensee-initiated change to its licensing basis. Additional information on the NRC staff's use of this revised regulatory guide with respect to both current and future users and applications is set forth in the “Implementation” section of the revised regulatory guide.

II. Congressional Review Act

This regulatory guide is a rule as defined in the Congressional Review Act (5 U.S.C. 801-808). However, the Office of Management and Budget has not found it to be a major rule as defined in the Congressional Review Act.

III. Backfitting and Issue Finality

Regulatory Guide 1.129, Revision 3, does not constitute backfitting as defined in 10 CFR 50.109 (the Backfit Rule) and is not otherwise inconsistent with the issue finality provisions in 10 CFR part 52, “Licenses, Certifications and Approvals for Nuclear Power Plants.” Revision 3 of this regulatory guide provides guidance on one possible means for meeting NRC's regulatory requirements with regard to the maintenance, testing, and replacement of vented lead-acid storage batteries in nuclear power plants in GDCs 1, 17 and 18, and the qualification testing requirements of Criterion III of 10 CFR Part 50, Appendix B. Existing licensees and applicants of final design certification rules will not be required to comply with the positions set forth in Revision 3 of this regulatory guide, unless the licensee or design certification rule applicant seeks a voluntary change to its licensing basis with respect to safety-related power operated valve actuators, and where the NRC determines that the safety review must include consideration of the qualification of the valve actuators. Further information on the staff's use of the Regulatory Guide 1.129, Revision 3, is contained in the regulatory guide under section D. Implementation.

Dated at Rockville, Maryland, this 16th day of September, 2013.
For the Nuclear Regulatory Commission.
Thomas H. Boyce,
Chief, Regulatory Guide Development Branch, Division of Engineering, Office of Nuclear Regulatory Research.

[FR Doc. 2013-23250 Filed 9-23-13; 8:45 am]

BILLING CODE 7590-01-P